DEPARTMENT OF ENERGY

Notice of Availability of a Supplement Analysis for Transportation, Storage, Characterization, and Disposal of Transuranic Waste Currently Stored at the Battelle West Jefferson Site Near Columbus, OH

AGENCY: Department of Energy.

ACTION: Notice of availability of a Supplement Analysis.

SUMMARY: DOE has prepared a Supplement Analysis (SA) pursuant to DOE regulations implementing the National Environmental Policy Act (NEPA) at 10 CFR 1021.314. The SA addresses DOE's proposal to ship approximately 37 cubic meters (1,307 cubic feet [ft³]) of transuranic (TRU) waste from the Battelle Columbus Laboratory West Jefferson site near Columbus, Ohio, to the Savannah River Site (SRS), a DOE site near Aiken, South Carolina, or to Waste Control Specialists, LLC (WCS), a commercial facility in Andrews, Texas. The waste was generated as part of the cleanup of the West Jefferson site and consists of approximately 12 cubic meters of Contact Handled (CH) TRU waste and approximately 25 cubic meters of Remote Handled (RH) TRU waste. For purposes of analysis, DOE assumed that at SRS, the CH-TRU waste would be characterized and transported to WIPP for disposal, and the RH-TRU waste would be stored for up to 5 years; at WCS, the CH-TRU and RH-TRU waste would be stored for up to 5 years. The waste would be maintained in a safe, secure manner until it can be processed and disposed of at the Waste Isolation Pilot Plant (WIPP) near Carlsbad, NM.

The Battelle West Jefferson facility is privately owned; however, as part of the closeout of its nuclear materials research contract, DOE is assisting in the remediation of the site. Contract terms specify that all radioactive waste generated during the facility cleanup is “DOE-owned” for the purposes of disposal. The TRU waste must be shipped off-site by December 31, 2005, as Battelle's Nuclear Regulatory Commission (NRC) license will expire at that time.

In the final Waste Management Programmatic Environmental Impact Statement (WM PEIS, DOE/EIS-0200, May 1997), DOE analyzed the potential environmental impacts of the management (treatment and storage) of TRU waste at DOE sites. The Record of Decision for the Department of Energy's Waste Management Program: Treatment and Storage of Transuranic Waste (63 FR 3629 (1998)) (TRU Waste ROD) documented DOE's decision that, except for the Sandia National Laboratory, which would ship its waste to Los Alamos National Laboratory, each DOE site that generated or will generate TRU waste will prepare and store its TRU waste on the site until it can be disposed of at WIPP. DOE noted that in the future, it may decide to ship TRU waste from sites where it may be impractical to prepare the waste for disposal to sites where DOE has or will have the necessary capability. The sites that could receive such shipments of TRU waste are the Idaho National Laboratory near Idaho Falls, Idaho; the Oak Ridge Reservation, near Oak Ridge, Tennessee; SRS; and the Hanford site, near Richland, Washington.

Based on the SA, DOE has determined that a supplement to the WM PEIS or a new EIS is not needed. DOE plans to issue an amended Record of Decision (ROD) under the Waste Management Programmatic Environmental Impact Statement (WM PEIS) for this waste no sooner than 30 days from the publication of this Notice.

DATES: DOE will consider all public comments on this matter submitted by October 11, 2005 before issuing a ROD.

ADDRESSES: Comments should be directed to: Mr. Harold Johnson, Carlsbad Field Office, U.S. Department of Energy, 4021 National Parks Highway, Carlsbad, NM 88220, Telephone: 505-234-7349, E-mail: harold.johnson@wipp.ws.

FOR FURTHER INFORMATION CONTACT: Copies of the Supplement Analysis for Transportation, Storage, Characterization, and Disposal of Transuranic Waste Currently Stored at the Battelle West Jefferson Site near Columbus, Ohio (DOE/EIS-0200-SA-02) will be available on DOE's Office of Environmental Management Web site at: http://www.em.doe.gov and on DOE's NEPA Web site at http://www.eh.doe.gov/nepa/whatsnew/html. To request printed copies of this document, please write or call: The Center for Environmental Management Information, P.O. Box 23769, Washington, DC 20026-3769, Telephone: 1-800-736-3282 (in Washington, DC: 202-863-5084).

For further information regarding the storage characterization, and disposal of Battelle West Jefferson TRU waste, contact: Mr. Harold Johnson, Carlsbad Field Office, U.S. Department of Energy, 4021 National Parks Highway, Carlsbad, NM 88220, Telephone: 505-234-7349.

For further information on the DOE program for the management of TRU waste, contact: Ms. Lynne Smith, WIPP Office EM-13, Office of Environmental Management, U.S. Department of Energy, 19001 Germantown Road, Germantown, MD 20874, Telephone: 301-903-6828.

For information on DOE's NEPA process, contact: Ms. Carol Borgstrom, Director, Office of NEPA Policy and Compliance, EH-42, U.S. Department of Energy, 1000 Independence Avenue, SW., Washington, DC 20585, Telephone 202-586-4600, or leave a message at 1-800-472-2756.

SUPPLEMENTARY INFORMATION: The U.S. Department of Energy (DOE) is responsible for the disposal of approximately 37 cubic meters (m3) (1,307 cubic feet [ft³]) of transuranic (TRU) waste generated as part of the cleanup of the Battelle Columbus Laboratory West Jefferson site near Columbus, Ohio, and currently stored on-site. TRU waste is waste that contains alpha particle-emitting radionuclides with atomic numbers greater than uranium (92) and half-lives greater than 20 years in concentrations greater than 100 nanocuries per gram of waste.

TRU waste is categorized as either contact handled (CH) or remote handled (RH), based on the radiation level at the surface of the waste container. Some TRU waste is also mixed waste, having both radioactive and hazardous components.

The Battelle West Jefferson facility is privately owned; however, as part of the closeout of its nuclear materials research contract, DOE is assisting in the remediation of the site. Contract terms specify that all radioactive waste generated during the facility cleanup is “DOE-owned” for the purposes of disposal. DOE needs to ship the TRU waste off-site by December 31, 2005, to comply with Battelle's Nuclear Regulatory Commission (NRC) license, which will expire at that time. Removal of the TRU waste from the Battelle West Jefferson site is also required to allow site closure in fiscal year (FY) 2006.

In the Waste Management Programmatic Environmental Impact Statement (WM PEIS), DOE analyzed the potential environmental impacts of the management (treatment and storage) of TRU waste at DOE sites. The Record of Decision for the Department of Energy's Waste Management Program: Treatment and Storage of Transuranic Waste (63 FR 3629 (1998)) (TRU Waste ROD) documented DOE's decision that, with the exception of the Sandia National Laboratory, which would send its waste to Los Alamos National Laboratory, each DOE site that has generated or will generate TRU waste will prepare and store its TRU waste on the site, pending disposal at WIPP.

In an amended WM PEIS TRU Waste ROD issued in 2002, DOE decided to ship the Battelle West Jefferson TRU waste to the Hanford Site for storage and characterization prior to disposal at the Waste Isolation Pilot Plant (WIPP), located near Carlsbad, New Mexico [67 FR 56989 (2002)]. After issuing that decision, DOE completed three shipments of the Battelle West Jefferson TRU waste to Hanford (approximately 5 m³ [177 ft³]). In March 2003, DOE suspended further shipments of this TRU waste to Hanford, and subsequently a preliminary injunction stopping further shipments of TRU waste to Hanford was issued by the U.S. District Court for the Eastern District of Washington in response to actions filed by the State of Washington and Columbia Riverkeeper.

Shipments of TRU waste to Hanford for storage and characterization prior to disposal at WIPP remained suspended pending completion of the Hanford Solid (Radioactive and Hazardous) Waste Program Environmental Impact Statement (Hanford Solid Waste EIS) (DOE 2004a) and lifting of the preliminary injunction. The Hanford Solid Waste EIS was completed in January 2004, and a Record of Decision (ROD) was issued in June 2004.¹ On May 13, 2005, the district court issued a decision allowing the shipment of non-mixed TRU waste from the Battelle West Jefferson site to Hanford. However, the court has retained a preliminary injunction against off site shipments of mixed TRU to Hanford.

¹ Record of Decision for the Solid Waste Program, Hanford Site, Richland, Washington: Storage and Treatment of Low-Level Waste and Mixed Low-Level Waste; Disposal of Low-Level Waste and Mixed Low-Level Waste; and Storage, Processing, and Certification of Transuranic Waste for Shipment to the Waste Isolation Pilot Plant, 69 FR 39449 (2004) (Hanford Solid Waste ROD).

Although shipment of non-mixed TRU waste to Hanford is no longer enjoined, DOE has discovered information that calls into question the accuracy of some of the analyses contained in the Hanford Solid Waste EIS. Until these questions can be addressed, DOE has decided not to ship additional waste from Battelle West Jefferson to Hanford. Nevertheless, by the end of 2005, DOE needs to ship all Battelle West Jefferson TRU waste to off-site storage so that Battelle can comply with its NRC license and site closure can occur in FY 2006.

DOE is now proposing to ship the Battelle West Jefferson TRU waste to the Savannah River Site (SRS), a DOE site near Aiken, South Carolina, or to Waste Control Specialists, LLC (WCS), a commercial facility in Andrews, Texas. For purposes of analysis, at SRS, the CH-TRU waste would be characterized and transported to WIPP for disposal, and the RH-TRU waste would be stored for up to 5 years pending ultimate disposal at WIPP. At WCS, the CH- and RH-TRU waste would be stored for up to 5 years pending ultimate disposal at WIPP.

DOE has a Hazardous Waste Facility Permit modification request pending before the New Mexico Environment Department that seeks to modify the characterization requirements for CH-TRU waste, apply those modified requirements to RH-TRU waste, and allow DOE to dispose of RH-TRU waste at WIPP. If DOE's request is granted without substantial modification, it may be possible to characterize the Battelle West Jefferson waste based on knowledge of the contents of the waste, without performing sampling and analysis currently required for CH-TRU waste under the WIPP Hazardous Waste Facility Permit. If characterization can be performed without additional sampling and analysis, DOE would ship the stored waste directly from SRS or WCS to WIPP.

If the WIPP TRU waste characterization requirements that are established by the hazardous waste facility permit modification cannot be met at SRS or WCS, then DOE would ship the waste from SRS or WCS to Hanford, Idaho National Laboratory (INL) (formerly known as the Idaho National Engineering and Environmental Laboratory), or Oak Ridge National Laboratory (ORNL) for characterization prior to shipment to WIPP for disposal. If SRS can meet the characterization requirements, but WCS cannot, the waste might also be shipped from WCS to SRS for characterization prior to shipment to WIPP for disposal.

Future decisions regarding where to characterize the Battelle West Jefferson TRU waste would be made based on (1) consideration of the characterization requirements that are eventually established for that waste, and (2) the characterization capabilities existing or to be established at the different DOE sites to meet those requirements. After TRU waste characterization requirements have been established, if additional characterization were needed, DOE would conduct appropriate further National Environmental Policy Act (NEPA) review, for any additional characterization activities if necessary, including the associated transportation and shipment of the TRU waste to WIPP for disposal.

DOE has prepared the SA in accordance with DOE NEPA regulations (10 CFR 1021.314) to determine whether the proposed shipment of the Battelle West Jefferson TRU waste for storage at SRS or WCS prior to disposal at WIPP is a substantial change to the proposal or whether there are significant new circumstances or information, relevant to environmental concerns, such that a supplement to the WM PEIS or a new EIS would be needed. DOE has concluded, based on the analysis in the SA that the impacts of shipping the waste to WCS or SRS would be very small and would not add significantly to impacts reported in prior NEPA analyses. Accordingly, DOE has determined that a supplement to the WM-PEIS or a new EIS is not needed.

DOE plans to issue an amended ROD under the WM PEIS for this waste no sooner than 30 days from the publication of this Notice. DOE will consider all public comments on this matter submitted by October 11, 2005 before issuing a ROD.

Issued in Washington, DC, September 1, 2005.
James A. Rispoli,
Assistant Secretary for Environmental Management.

[FR Doc. 05-17791 Filed 9-7-05; 8:45 am]

BILLING CODE 6450-01-P